DEPARTMENT OF THE TREASURY

Submission for OMB Review; Comment Request

September 25, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before November 6, 2002 to be assured of consideration.

Bureau of Alcohol, Tobacco and Firearms (BATF)

OMB Number: 1512-0001.

Form Number: ATF F 1370.3 and ATF F 1370.2.

Type of Review: Extension.

Title: Requisition for Forms or Publications (1370.3); and Requisition for Firearms Explosives Forms (1370.2).

Description: Forms are used by the general public to request or order forms or publications from the ATF Distribution Center. These forms notify ATF of the quantity required by the respondent and provide a guide as to annual usage of ATF forms and publications by the general public.

Respondents: Business or other for-profit, Individuals or households.

Estimated Number of Respondents: 30,000.

Estimated Burden Hours Per Respondent: 1 hour, 3 minutes.

Frequency of Response: On occasion.

Estimated Total Reporting Burden: 1,725 hours.

OMB Number: 1512-0117.

Form Number: ATF F 5620.7 (2147).

Type of Review: Extension.

Title: Claim for Drawback of Tax on Cigars, Cigarettes, Cigarette Papers and Cigarette Tubes.

Description: ATF F 5620.7 documents taxpaid cigarettes, cigars, cigarette papers and tubes that were exported to a foreign country, Puerto Rico, or Virgin Islands. This form is used by taxpayer to claim drawback for tax paid on exported products.

Respondents: Business or other for-profit.

Estimated Number of Recordkeepers: 288.

Estimated Burden Hours Per Recordkeeper: 30 minutes.

Frequency of Response: On occasion.

Estimated Total Recordkeeping Burden: 144 hours.

OMB Number: 1512-0472.

Form Number: ATF F 5630.5 and ATF 5630.7.

Type of Review: Extension.

Title: Special Tax Registration and Return Alcohol and Tobacco (5630.5); and Special Tax Registration and Return National Firearms Act (NFA)(5630.7).

Description: Excise taxes, alcohol, tobacco and firearms taxes, 26 U.S.C. Chapters 51, 52, and 53 authorize the collection of an occupational tax from persons engaging in certain alcohol, tobacco or firearms businesses. ATF F 5630.5 and/or ATF F 5630.7 is used to both compute and report the tax, and as an application for registry as required by statute. Upon receipt of the tax a special tax stamp is issued.

Respondents: Business or other for-profit, Individuals or households, Not-for-profit institutions.

Estimated Number of Respondents: 90,700.

Estimated Burden Hours Per Respondent: 48 minutes.

Frequency of Response: On occasion.

Estimated Total Reporting Burden: 72,778 hours.

Clearance Officer: Jacqueline White, (202) 927-8930, Bureau of Alcohol, Tobacco and Firearms, Room 3200, 650 Massachusetts Avenue, NW., Washington, DC 20226.

OMB Reviewer: Joseph F. Lackey, Jr., (202) 395-7316, Office of Management and Budget, Room 10235, New Executive Office Building, Washington, DC 20503.

Mary A. Able,
Departmental Reports Management Officer.

[FR Doc. 02-25359 Filed 10-4-02; 8:45 am]

BILLING CODE 4810-31-P